DEPARTMENT OF HEALTH AND HUMAN SERVICES

Centers for Disease Control and Prevention

[30Day-20-0841]

Agency Forms Undergoing Paperwork Reduction Act Review

In accordance with the Paperwork Reduction Act of 1995, the Centers for Disease Control and Prevention (CDC) has submitted the information collection request titled [Management Information System for Comprehensive Cancer Control Programs] to the Office of Management and Budget (OMB) for review and approval. CDC previously published a “Proposed Data Collection Submitted for Public Comment and Recommendations” notice on November 4, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Management Information Systems for Comprehensive Cancer Control Programs (OMB Control No. 0920-0841, Exp. 6/30/2019)—Reinstatement with Change—National Center for Chronic Disease and Health Promotion (NCCDPHP), Centers for Disease Control and Prevention (CDC).

Background and Brief Description

In 2017, 66 awardees, representing all 50 states, the District of Columbia, seven United States Association Pacific Islands and territories, and eight tribes and tribal organizations, were selected for funding under NOFO (DP17-1701, “Cancer Prevention and Control Programs for State, Territorial, and Tribal Organizations”). Under this cooperative agreement, awardees implement cancer prevention and control programs to reduce cancer morbidity, mortality, and disparities. To facilitate program monitoring, performance assessment, and evaluation, a web-based management information system (MIS) is needed for collection and abstraction of information about program resources, partnerships, work plan activities, and evaluation efforts. Information collection is organized into eight areas (MIS tabs): (1) FOA & Recipients; (2) Program Information; (3) Resources; (4) Leadership Team; (5) Financial; (6) Planning; (7) Action Plan; and (8) Reports. The Leadership Team tab is new. CDC conducted user acceptability testing of the leadership team tab data elements which allowed for an accurate estimate of burden per response. All information collected by CDC will be analyzed and used in aggregate to describe program efforts.

OMB approval is requested for three years, which coincides with the last three years of the program. All awardees will submit information to CDC annually. Participation is required as a condition of funding under the cooperative agreement. The estimated burden per response is one hour and the total estimated annualized burden is 66 hours.

Estimated Annualized Burden Hours
Type of respondents | Form name | Number of respondents | Number of responses per respondent | Average burden per response (in hours)
Program Director for State- Tribal-, or Territorial- based Cancer Prevention and Control Program | Data Elements for All CPC Programs: Annual Reporting | 66 | 1 | 1

Jeffrey M. Zirger,
Lead, Information Collection Review Office, Office of Scientific Integrity, Office of Science, Centers for Disease Control and Prevention.

[FR Doc. 2020-08164 Filed 4-16-20; 8:45 am]

BILLING CODE 4163-18-P